DEPARTMENT OF DEFENSE

Department of the Army

Notice of Availability of the Draft Environmental Impact Statement (DEIS) for the Disposal and Reuse of Fort McPherson, GA; Correction

AGENCY: Department of the Army, DoD.

ACTION: Notice; correction.

SUMMARY: The Department of the Army published a Notice of Availability in the Federal Register of October 10, 2008, concerning the DEIS for Disposal and Reuse of Fort McPherson, Georgia. The Notice of Availability contained incorrect information.

Correction

In the Federal Register of October 10, 2008, in FR Doc. E8-23995, on page 60246, the third column correct the DATES section to read:

DATES: The public comment period for the DEIS will end 70 days after publication of an NOA in the Federal Register by the U.S. Environmental Protection Agency.

On page 60247, first column, lines 25-26, correct to read: www.mcphersonredevelopment.com.

On page 60247, second column, lines 24-27, correct to read: at http://www.mcphersonredevelopment.com and http://www.hqda.army.mil/acsimweb/brac/nepa_eis_docs.htm.

Dated: October 10, 2008.
H.E. Wolfe,
Principal Assistant, Deputy Assistant Secretary of the Army (Environment, Safety and Occupational Health).

[FR Doc. E8-24717 Filed 10-16-08; 8:45 am]

BILLING CODE 3710-08-M